DEPARTMENT OF HEALTH AND HUMAN SERVICES

Substance Abuse and Mental Health Services Administration

Notice of Meeting for the Interdepartmental Serious Mental Illness Coordinating Committee (ISMICC)—Correction

AGENCY: Substance Abuse and Mental Health Services Administration, HHS.

ACTION: Notice of correction.

SUMMARY: This is a correction to the meeting announcement of the Notice of Meeting for the Interdepartmental Serious Mental Illness Coordinating Committee published on the Federal Register, Vol. 83, No. 66/Thursday, April 5, 2018/Notices. FR Doc. 2018-06913. The notice of the meeting should have included the following statement: Members of the public can attend the meeting via telephone or webcast only, and not in person.

The Secretary of Health and Human Services (Secretary), in accordance with section 6031 of the 21st Century Cures Act, announces a meeting of the Interdepartmental Serious Mental Illness Coordinating Committee (ISMICC).

The meeting is open to the public and will include information on federal efforts related to serious mental illness (SMI) and serious emotional disturbance (SED), including data evaluation, and recommendations for action. Committee members will also discuss ISMICC member relationship to implementation workgroups, establishing the prevalence of SMI and SED, communication with non-federal organizations to engage non-federal support for ISMICC, and future meetings.

Committee Name: Interdepartmental Serious Mental Illness Coordinating Committee.

DATES: June 8, 2018/9:00 a.m.-5:00 p.m. (EDT).

ADDRESSES: The meeting will be held at the Hubert H. Humphrey Building, 200 Independence Avenue SW, Room 800, Washington, DC 20201. The meeting can be accessed via webcast at www.hhs.gov/live, or by joining the teleconference at toll-free number 1-888-928-9713, passcode 7160920.

The public comment section is scheduled for 1:00 p.m. Eastern Daylight Time (EDT), and individuals interested in submitting a comment, must notify the Designated Federal Official (DFO), Ms. Pamela Foote, on or before May 24, 2018 via email to: Pamela.Foote@samhsa.hhs.gov.

Two minutes will be allotted for each approved public comment as time permits. Written comments received in advance of the meeting will be included in the official record of the meeting.

Substantive meeting information and a roster of Committee members is available at the Committee's website https://www.samhsa.gov/about-us/advisory-councils/smi-committee.

FOR FURTHER INFORMATION CONTACT: Pamela Foote, Substance Abuse and Mental Health Services Administration, 5600 Fishers Lane, 14E53C, Rockville, MD 20857; telephone: 240-276-1279; email: pamela.foote@samhsa.hhs.gov.

SUPPLEMENTARY INFORMATION:

I. Background and Authority

The ISMICC was established on March 15, 2017, in accordance with section 6031 of the 21st Century Cures Act, and the Federal Advisory Committee Act, 5 U.S.C. App., as amended, to report to the Secretary, Congress, and any other relevant federal department or agency on advances in serious mental illness (SMI) and serious emotional disturbance (SED), research related to the prevention of, diagnosis of, intervention in, and treatment and recovery of SMIs, SEDs, and advances in access to services and support for adults with SMI or children with SED. In addition, the ISMICC will evaluate the effect federal programs related to serious mental illness have on public health, including public health outcomes such as (A) rates of suicide, suicide attempts, incidence and prevalence of SMIs, SEDs, and substance use disorders, overdose, overdose deaths, emergency hospitalizations, emergency room boarding, preventable emergency room visits, interaction with the criminal justice system, homelessness, and unemployment; (B) increased rates of employment and enrollment in educational and vocational programs; (C) quality of mental and substance use disorders treatment services; or (D) any other criteria as may be determined by the Secretary. Finally, the ISMICC will make specific recommendations for actions that agencies can take to better coordinate the administration of mental health services for adults with SMI or children with SED. Not later than 1 (one) year after the date of enactment of the 21st Century Cures Act, and 5 (five) years after such date of enactment, the ISMICC shall submit a report to Congress and any other relevant federal department or agency.

II. Membership

This ISMICC consists of federal members listed below or their designees, and non-federal public members.

Federal Membership: Members include, The Secretary of HHS; The Assistant Secretary for Mental Health and Substance Use; The Attorney General; The Secretary of the Department of Veterans Affairs; The Secretary of the Department of Defense; The Secretary of the Department of Housing and Urban Development; The Secretary of the Department of Education; The Secretary of the Department of Labor; The Administrator of the Centers for Medicare and Medicaid Services; and The Commissioner of the Social Security Administration.

Non-federal Membership: Members include, 14 non-federal public members appointed by the Secretary, representing psychologists, psychiatrists, social workers, peer support specialists, and other providers, patients, family of patients, law enforcement, the judiciary, and leading research, advocacy, or service organizations.

The ISMICC is required to meet twice per year.

Dated: April 6, 2018.
Carlos Castillo,
Committee Management Officer.

[FR Doc. 2018-07479 Filed 4-10-18; 8:45 am]

BILLING CODE 4162-20-P